DEPARTMENT OF COMMERCE

National Oceanic and Atmospheric Administration

50 CFR Part 660

RIN 0648- AY68

Fisheries off West Coast States; Pacific Coast Groundfish Fishery Management Plan; Amendments 20 and 21; Trawl Rationalization Program

AGENCY: National Marine Fisheries Service (NMFS), National Oceanic and Atmospheric Administration (NOAA), Commerce.

ACTION: Availability of amendments to a fishery management plan; request for comments.

SUMMARY: NMFS announces that the Pacific Fishery Management Council (Council) has submitted Amendments 20 and 21 to the Pacific Coast Groundfish Fishery Management Plan (FMP) for review by the Secretary of Commerce (Secretary). Amendment 20 would modify the FMP to create the structure and management details of the trawl rationalization program for the limited entry trawl fishery. Amendment 21 would modify the FMP to allocate the groundfish stocks between trawl and non-trawl fisheries and within trawl fisheries. The trawl rationalization program (Amendments 20 and 21) is intended to increase net economic benefits, create individual economic stability, provide full utilization of the trawl sector allocation, consider environmental impacts, and achieve individual accountability of catch and bycatch.

DATES: Comments on Amendments 20 and 21 must be received no later than 5 p.m., local time on July 12, 2010.

ADDRESSES: You may submit comments, identified by RIN 0648- AY68 by any one of the following methods:

Electronic Submissions: Submit all electronic public comments via the Federal eRulemaking Portal http://www.regulations.gov.

• Fax: 206-526-6736, Attn: Jamie Goen.

• Mail: Barry Thom, Acting Administrator, Northwest Region, NMFS, 7600 Sand Point Way NE, Seattle, WA 98115-0070, Attn: Jamie Goen.

Instructions: All comments received are a part of the public record and will generally be posted to http://www.regulations.gov without change. All Personal Identifying Information (for example, name, address, etc.) voluntarily submitted by the commenter may be publicly accessible. Do not submit Confidential Business Information or otherwise sensitive or protected information.NMFS will accept anonymous comments (enter N/A in the required fields if you wish to remain anonymous). Attachments to electronic comments will be accepted in Microsoft Word, Excel, WordPerfect, or Adobe PDF file formats only.

FOR FURTHER INFORMATION CONTACT: Jamie Goen, phone: 206-526-4656, fax: 206-526-6736, and e-mail jamie.goen@noaa.gov.

SUPPLEMENTARY INFORMATION:

Electronic Access

This notice of availability is accessible via the Internet at the Office of the Federal Register's Website at http://www.gpoaccess.gov/fr/index.html. Background information and documents are available at the Pacific Fishery Management Council's website at http://www.pcouncil.org/.

The Magnuson-Stevens Fishery Conservation and Management Act (Magnuson-Stevens Act) requires that each regional fishery management council submit any FMP or plan amendment it prepares to NMFS for review and approval, disapproval, or partial approval. The Magnuson-Stevens Act also requires that NMFS, upon receiving an FMP or amendment, immediately publish a notice that the FMP or amendment is available for public review and comment. NMFS will consider public comments received during the comment period described above in determining whether to approve Amendments 20 and 21 to the FMP.

Amendment 20 would modify the FMP to create the structure and management details of the trawl rationalization program for the limited entry trawl fishery. Amendment 21 would modify the FMP to allocate the groundfish stocks between trawl and non-trawl fisheries and within trawl fisheries. The trawl rationalization program would consist of: (1) an individual fishing quota (IFQ) program for the shore-based trawl fleet; and (2) cooperative (coop) programs for the at-sea trawl fleet. The trawl rationalization program (Amendments 20 and 21) is intended to increase net economic benefits, create individual economic stability, provide full utilization of the trawl sector allocation, consider environmental impacts, and achieve individual accountability of catch and bycatch.

NMFS will review Amendments 20 and 21 in their entirety. However, due to the complexity of the proposed fishery management measures, the proposed rule that will publish shortly after this notice of availability (NOA) for the FMP amendments, proposes only certain key components that would be necessary to have permits and endorsements issued in time for use in the 2011 fishery and in order to have the 2011 harvest specifications reflect the new allocation scheme. Specifically, the proposed rule would establish the formal allocations set forth under Amendment 21 and establish procedures for initial issuance of permits, endorsements, and quota shares under the IFQ and Coop programs. In addition, the proposed rule would restructure the entire Pacific Coast groundfish regulations at 50 CFR part 660 to more closely track the organization of the proposed management measures and to make the total groundfish regulations clearer.

If Amendments 20 and 21 are approved, NMFS plans to propose additional program details in a future proposed rule. Such additional details would include: Program components applicable to IFQ gear switching, observer programs, retention requirements, equipment requirements, catch monitors, catch weighing requirements, coop permits/agreements, first receiver site licenses, quota share accounts, vessel accounts, further tracking and monitoring components, and economic data collection requirements. NMFS is also planning a future rule for the cost recovery program based on a recommended methodology yet to be developed by the Council. NMFS welcomes comments on the proposed FMP amendments through the end of the comment period. In order to encourage more informed public comment on the amendments, the preamble to the proposed rule includes a general description of the full trawl rationalization program, including general descriptions of program details that will be implemented through additional rulemakings at a later date.

A proposed rule to implement initial allocations and appeals for Amendment 20 and the provisions of Amendment 21 has been submitted by the Council for Secretarial review and approval. NMFS expects to publish and request public review and comment on the proposed regulations to implement Amendments 20 and 21 in the near future. Public comments on the proposed rule must be received by the end of the comment period on the amendment to be considered in the approval/disapproval decision on the amendment, which must occur no later than within 30 days of the end of the comment period. All comments received by the end of the comment period for the amendment, whether specifically directed to the amendments or the proposed rule, will be considered in the approval/disapproval decision.

Authority: 16 U.S.C. 1801 et seq.

Dated: May 7, 2010.
James P. Burgess
Acting Director, Office of Sustainable Fisheries, National Marine Fisheries Service.

[FR Doc. 2010-11346 Filed 5-11-10; 8:45 am]

BILLING CODE 3510-22-S